DEPARTMENT OF ENERGY

Federal Energy Regulatory Commission

[Project No. 2100-175]

California Department of Water Resources; Notice of Application Accepted for Filing, Soliciting Comments, Motions To Intervene, and Protests

Take notice that the following hydroelectric application has been filed with the Commission and is available for public inspection:

a. Types of Application: Amendment to License.

b. Project No.: 2100-175.

c. Date Filed: January 12, 2011.

d. Applicant: California Department of Water Resources (DWR).

e. Name of Project: Feather River Hydroelectric Project.

f. Location: The project is located on the Feather River in Butte County near Oroville, California.

g. Filed Pursuant to: Federal Power Act, 16 U.S.C. 791a-825r.

h. Applicant Contact: Mr. Bill Cochran, Chief of DWR's License Coordination Branch, 1416 Ninth Street, P.O. Box 942836, Sacramento, California; 530-534-2376.

i. FERC Contact: Mr. Lorance Yates, 678-245-3084, lorance.yates@ferc.gov.

j. Deadline for filing comments, motions to intervene, and protests, is 30 days from the issuance date of this notice. All documents may be filed electronically via the Internet. See 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street, NE., Washington, DC 20426. Commenters can submit brief comments up to 6,000 characters, without prior registration, using the eComment system at http://www.ferc.gov/docs-filing/ecomment.asp. You must include your name and contact information at the end of your comments.

Please include the project number (P-2100-175) on any comments, motions, or recommendations filed.

k. Description of Request: The California Department of Water Resources, licensee for the Feather River Hydroelectric Project, has filed a request for authorization to temporarily close the Lime Saddle Campground. Due to low seasonal usage by the public, the licensee proposes to close the Lime Saddle Campground from January 1, 2011 to April 30, 2011 in order to perform maintenance at the site. The Lime Saddle Campground contains 44 individual sites and 6 group campsites. During this closure, the public will be directed to the licensee's other two campgrounds at the project. The Bidwell Canyon Campground contains 75 individual sites and the Loafer Creek Campground contains 137 individual sites and 6 group campsites.

l. Locations of the Application: A copy of the application is available for inspection and reproduction at the Commission's Public Reference Room, located at 888 First Street, NE., Room 2A, Washington, DC 20426, or by calling 202-502-8371. This filing may also be viewed on the Commission's Web site at http://www.ferc.gov/docs-filing/efiling.asp. Enter the docket number excluding the last three digits in the docket number field to access the document. You may also register online at http://www.ferc.gov/docs-filing/esubscription.asp to be notified via e-mail of new filings and issuances related to this or other pending projects. For assistance, call 866-208-3676 or e-mail FERCOnlineSupport@ferc.gov, for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) Bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: February 8, 2011.
Kimberly D. Bose,
Secretary.

[FR Doc. 2011-3303 Filed 2-14-11; 8:45 am]

BILLING CODE 6717-01-P